DEPARTMENT OF VETERANS AFFAIRS

[OMB Control No. 2900-NEW]

Agency Information Collection Activity Under OMB Review: Preauthorization and Request for Payment of Bowel and Bladder Services

AGENCY: Veterans Health Administration, Department of Veterans Affairs.

ACTION: Notice.

SUMMARY: In compliance with the Paperwork Reduction Act (PRA) of 1995, this notice announces that the Veterans Health Administration (VHA), Department of Veterans Affairs (VA), will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-NEW.”

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-NEW” in any correspondence.

SUPPLEMENTARY INFORMATION:

Authority: 44 U.S.C. 3501-21.

Title: Preauthorization and Request for Payment of Bowel and Bladder Services, VA Forms 10-314a, 10-314b.

OMB Control Number: 2900-NEW.

Type of Review: New collection.

Abstract: Legal authority for this information collection is found in 38 U.S.C., chapter 17, for Veterans seeking health care services. Data collected may be used to establish, determine, and monitor eligibility to receive VA benefits and for authorizing and paying Non-VA healthcare services furnished to Veterans and beneficiaries. VA Form 10-314a will be used by physicians to request preauthorization of bowel and bladder services and certify that caregivers have been properly trained and meet all requirements for safely rendering care to Veterans. VA Form 10-314b is required for caregivers to receive reimbursement for bowel and bladder care services. The form is used to list the dates and times the care was rendered to the Veteran and is then submitted monthly to VA to request payment for those services.

An agency may not conduct or sponsor, and a person is not required to respond to a collection of information unless it displays a currently valid OMB control number. The Federal Register Notice with a 60-day comment period soliciting comments on this collection of information was published at 87 FR 240 on December 15, 2022, page 76695.

Total Annual Number of Responses = 44,200.

Total Annual Time Burden = 7,367 hours.

VA Form 10-314a:

Affected Public: Individuals or households.

Estimated Annual Burden: 567 hours.

Estimated Average Burden per Respondent: 10 minutes.

Frequency of Response: Once time.

Estimated Number of Respondents: 3,400.

VA Form 10-314b:

Affected Public: Individuals or households.

Estimated Annual Burden: 6,800 hours.

Estimated Average Burden per Respondent: 10 minutes.

Frequency of Response: 12 times per year.

Estimated Number of Respondents: 3,400.

By direction of the Secretary.
Maribel Aponte,
VA PRA Clearance Officer, Office of Enterprise and Integration, Data Governance Analytics, Department of Veterans Affairs.

[FR Doc. 2023-04184 Filed 2-28-23; 8:45 am]

BILLING CODE 8320-01-P